ENVIRONMENTAL PROTECTION AGENCY

[EPA-HQ-OW-2011-0465; FRL-9205-01-OMS]

Information Collection Request Submitted to OMB for Review and Approval; Comment Request; Water Quality Standards Regulation (Renewal)

AGENCY: Environmental Protection Agency (EPA).

ACTION: Notice.

SUMMARY: The Environmental Protection Agency (EPA) has submitted an information collection request (ICR), Water Quality Standards Regulation (EPA ICR Number 0988.15, OMB Control Number 2040-0049), to the Office of Management and Budget (OMB) for review and approval in accordance with the Paperwork Reduction Act. This is a proposed extension of the ICR, which is currently approved through December 31, 2021. Public comments were previously requested via the Federal Register on March 24, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before November 29, 2021.

ADDRESSES: Submit your comments, referencing Docket ID Number EPA-HQ-OW-2011-0465, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Menchu Martinez, Office of Water, Office of Science and Technology, Standards and Health Protection Division (4305T), Environmental Protection Agency, 1200 Pennsylvania Ave. NW, Washington, DC 20460; telephone number: 202-566-1218; email address: martinez.menchu-c@epa.gov.

SUPPLEMENTARY INFORMATION: Supporting documents, which explain in detail the information that EPA would be collecting, are available in the public docket for this ICR (Docket ID No. EPA-HQ-OW-2011-0465). The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Water quality standards (WQS) under the Clean Water Act (CWA) are provisions of state,¹ tribal,² or federal law which consist of designated uses for waters of the United States, water quality criteria to protect those uses, and antidegradation requirements. WQS are established to protect public health or welfare, protect and enhance the quality of water, and serve the purposes of the CWA. Such standards serve the dual purposes of establishing the water quality goals for water bodies and serving as a regulatory basis for establishing water quality-based treatment controls and strategies beyond technology-based treatment required by CWA sections 301 and 306. The WQS regulation, consisting of 40 CFR part 131, establishes the framework for states and authorized tribes to adopt standards, and for EPA to review and approve or disapprove them.

¹ “States” in EPA's WQS Regulation and in this document includes the 50 states, the District of Columbia, Guam, the Commonwealth of Puerto Rico, the Virgin Islands, American Samoa, and the Commonwealth of the Northern Mariana Islands.

² “Tribes” in this document refers to federally recognized tribes and “authorized tribes” refers to those federally recognized tribes with authority to administer a CWA WQS program.

This ICR renews the WQS Regulation ICR, OMB Control Number 2040-0049. This ICR is for information collections needed to implement the WQS regulation, required to obtain or retain benefits (e.g., relaxed regulatory requirements) under the WQS regulation, and requested on a voluntary basis to gather technical program information. This ICR also renews collection of WQS information by dischargers in the Great Lakes watershed required to obtain or retain certain benefits pursuant to the Water Quality Guidance of the Great Lakes System, 40 CFR part 132.

Form Numbers: None.

Respondents/affected entities: 50 states, the District of Columbia, the five territories, authorized tribes with EPA-approved WQS, additional tribes seeking authority to administer WQS, and dischargers located in the Great Lakes watershed.

Respondent's obligation to respond: Some collections in this ICR are mandatory, some are required to obtain or retain benefits pursuant to the WQS Regulation, and some are voluntary.

Estimated number of respondents: 342.

Frequency of response: Variable (once every three years, on occasion or as necessary, or only once) depending on the type of information collected.

Total estimated burden: 480,242 hours per year. Burden is defined at 5 CFR 1320.03(b).

Total estimated cost: $22,160,992 per year, including $21,897,472 of labor costs and $263,520 of annualized operation and maintenance costs per year. There are no capital costs.

Changes in the estimates: This renewal reflects a decrease of 27,645 hours in the total estimated respondent burden compared to the total burden currently approved by OMB for this ICR. The decrease reflects EPA adjustments, primarily removal of the burden for a collection confirmed to be inactive, partially offset by increased burden associated with additional respondents (e.g., two additional tribes with EPA-approved WQS and a small increase in the number of dischargers to the Great Lakes system).

Courtney Kerwin,
Director, Regulatory Support Division.

[FR Doc. 2021-23503 Filed 10-27-21; 8:45 am]

BILLING CODE 6560-50-P